DEPARTMENT OF COMMERCE

National Oceanic and Atmospheric Administration

RIN 0648-XE739

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Committee to consider actions affecting New England fisheries in the exclusive economic zone (EEZ). Recommendations from this group will be brought to the full Council for formal consideration and action, if appropriate.

DATES: This meeting will be held on Wednesday, August 3, 2016 at 9 a.m.

ADDRESSES: Meeting address: The meeting will be held at the DoubleTree by Hilton, 363 Maine Mall Road, South Portland, ME 04106; phone: (207) 775-6161; fax: (207) 756-6622.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee will receive a summary of the recommendations from the Recreational Advisory Panel meeting on August 2. The panel will discuss specifications and management measures of Framework Adjustment 56 as well as (1) receive an overview of the Council staff white paper on the recreational management measures process, (2) develop recommendations to the Council regarding improving the recreational management measures process, (3) receive a Plan Development Team (PDT) report that summarizes Atlantic halibut management and recent catch and effort for the directed fishery in the State of Maine, and (4) discuss draft alternatives and make recommendations to the Council. They will also receive a progress report from the PDT on the white paper on monitoring strategies, and develop recommendations to the Council. Other business will be discussed as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: July 13, 2016.
Tracey L. Thompson,
Acting Deputy Director, Office of Sustainable Fisheries, National Marine Fisheries Service.

[FR Doc. 2016-16913 Filed 7-15-16; 8:45 am]

BILLING CODE 3510-22-P